DEPARTMENT OF HOMELAND SECURITY

Coast Guard

[USCG-2001-10486]

RIN 1625-AA32

Standards for Living Organisms in Ship's Ballast Water Discharged in U.S. Waters

AGENCY: Coast Guard, DHS.

ACTION: Notice of public meetings.

SUMMARY: Under the direction of the National Invasive Species Act, and the National Environmental Policy Act, the Coast Guard seeks consultation with all interested and affected stakeholders to discuss issues to be addressed in the programmatic environmental impact statement for the development of ballast water discharge standards as stated in the September 26, 2003, Federal Register (68 FR 55559). To accomplish this, the Coast Guard will hold five regional public scoping meetings in order to expand the opportunity for public input. We seek comments from any interested or affected stakeholders and encourage all stakeholders to attend these meetings.

DATES: The public scoping meetings will be held on the following dates in the cities listed:

• New Orleans, LA, October 27, 2003, from 12 p.m. to 4 p.m. and 5 p.m. to 7 p.m.;

• Oakland, CA, October 29, 2003, from, 12 p.m. to 4 p.m. and 5 p.m. to 7 p.m.;

• Cleveland, OH, October 31, 2003, from, 12 p.m. to 4 p.m. and 5 p.m. to 7 p.m.;

• Norfolk, VA, November 3, 2003, from, 12 p.m. to 4 p.m. and 5 p.m. to 7 p.m.; and

• Washington DC, November 7, 2003, from 11 a.m. to 3 p.m. and 4 p.m. to 6 p.m.

ADDRESSES: The Coast Guard will hold the public scoping meetings at the following locations:

• New Orleans, LA—New Orleans Marriott, 555 Canal Street, New Orleans, LA 70130, 1-504-581-1000;

• Oakland, CA—Elihu Harris Building, 1515 Clay Street, Oakland, CA 94612, 1-510-622-2398;

• Cleveland, OH—Holiday Inn Select, 1111 Lakeside Avenue, Cleveland, OH 44114, 1-216-241-5100;

• Norfolk, VA—Marriott Norfolk Waterside, 235 E. Main Street, Norfolk, VA 23510, 1-757-627-4200; and

• Washington, DC—EPA East Building, Room 1153, 1201 Constitution Avenue, NW., Washington, DC 20590, 1-202-566-1200.

You may also submit your comments on this scoping effort directly to the Docket Management Facility. To ensure that your comments and related material are not entered more than once in the docket [USCG-2001-10486], please submit them by only one of the following means:

(1) By mail to the Docket Management Facility (USCG-2003-14273), U.S. Department of Transportation, room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

(5) Federal eRulemaking Portal: http://www.regulations.gov.

You must also mail comments on collection of information to the Office of Information and Regulatory Affairs, Office of Management and Budget, 725 17th Street, NW., Washington, DC 20503, ATTN: Desk Officer, United States Coast Guard. In choosing among these means, please give due regard to the recent difficulties and delays associated with delivery of mail through the U.S. Postal Service to Coast Guard Headquarters.

The Docket Management Facility maintains the public docket for this notice. Comments and material received from the public, as well as documents mentioned in this preamble as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Anyone is able to search the electronic form of all comments received into any of our dockets by the name of the individual submitting the comment (or signing the comment, if submitted on behalf of an association, business, labor union, etc.). You may review Department of Transportation's complete Privacy Act Statement in the Federal Register published on April 11, 2000 (Volume 65, Number 70; Pages 19477-78) or you may visit http://dms.dot.gov.

FOR FURTHER INFORMATION CONTACT: If you have any questions about the project or the meetings, contact Mr. Bivan R. Patnaik, U.S. Coast Guard at (202) 267-1744 or bpatnaik@comdt.uscg.mil.

SUPPLEMENTARY INFORMATION:

Request for Comments

The Coast Guard encourages you to submit comments and related material on the development of the programmatic environmental impact statement. If you do so, please include your name and address, identify the docket number [USCG-2001-10486], and provide the reasons for each comment. You may submit your comments and material by mail, delivery, fax, or electronic means to the Docket Management Facility at the address under ADDRESSES; but please submit your comments and material by only one means. Public comments will also be accepted at these public scoping meetings.

Information on Service for Individuals With Disabilities

If you plan to attend these meetings and require special assistance, such as sign language interpretation or other reasonable accommodations, contact us as indicated in FOR FURTHER INFORMATION CONTACT.

Public Scoping Meetings

The Coast Guard encourages interested and affected stakeholders to attend the meetings and present oral comment or written comments during the meetings. The meetings are open to members of the public. Please note that the meetings may close early if all business is finished. If you are unable to attend the meetings, we encourage you to submit comments to the Docket Management Facility as indicated under Addresses by December 26, 2003.

Background and Purpose

On September 26, 2003, the Coast Guard published a notice of intent with request for comments in the Federal Register (68 FR 55559) to develop a programmatic environmental impact statement (PEIS) in preparation of a proposed rulemaking to establish standards for ballast water discharges. As part of the scoping process summarized in that notice, and authorized by 40 CFR 1508.22(b)(4), the Coast Guard will hold public meetings at the times and locations noted above under DATES and ADDRESSES. You may consult the notice of intent for further information about the proposed rule for establishing standards for ballast water discharges. Please note that information regarding the PEIS can also be found at the following Web sites: http://www.uscg.mil/hq/g-m/mso/mso4/ans.html; and http://www.epa.gov/owow/invasive_species/.

Dated: September 30, 2003.
Joseph J. Angelo,
Director of Standards, Marine Safety, Security & Environmental Protection.

[FR Doc. 03-25188 Filed 10-2-03; 8:45 am]

BILLING CODE 4910-15-P